DEPARTMENT OF AGRICULTURE

Commodity Credit Corporation

7 CFR Part 1430

RIN 0560-AI23

Margin Protection Program for Dairy and Dairy Product Donation Program

AGENCY: Commodity Credit Corporation and Farm Service Agency, USDA.

ACTION: Final rule; reopening of comment period.

SUMMARY: The Commodity Credit Corporation (CCC) and the Farm Service Agency (FSA) published a final rule on August 29, 2014, implementing regulations for the Margin Protection Program for Dairy (MPP-Dairy) and the Dairy Product Donation Program (DPDP) as authorized in subtitle D of the Agricultural Act of 2014 (the 2014 Farm Bill). We are extending the comment period for the final rule to give the public more time to provide input and recommendations on the final rule. The original 60-day comment period, which will close on October 28, 2014, is being extended by 45 days from the date of publication of this document.

DATES: The comment period for the final rule published August 29, 2014 (79 FR 51453), and effective August 29, 2014, is reopened. We will consider comments that we receive by December 15, 2014.

ADDRESSES: We invite you to submit comments on the final rule. In your comment, please specify RIN 0560-AI23, August 29, 2014, and 79 FR 51453-51470. You may submit comments by any of the following methods:

• Federal eRulemaking Portal: Go to http://www.regulations.gov. Follow the online instructions for submitting comments; or

• Mail, Hand Delivery, or Courier Danielle Cooke, Special Programs Manager, Price Support Division, FSA, USDA, STOP 0512, 1400 Independence Ave. SW., Washington, DC 20250-0512.

All written comments will be available for inspection online at www.regulations.gov and at the mail address above during business hours from 8 a.m. to 5 p.m., Monday through Friday, except holidays. A copy of this extension and the published final rule are available through the FSA home page at http://www.fsa.usda.gov/.

FOR FURTHER INFORMATION CONTACT: For MPP-Dairy: Danielle Cooke; telephone: (202) 720-1919. For DPDP purchases: Christine Gouger, telephone: (816) 926-3379. For DPDP donations: Anne Fiala, telephone: (703) 305-2662. Persons with disabilities who require alternative means for communication (Braille, large print, audio tape, etc.) should contact the USDA Target Center at (202) 720-2600 (voice).

SUPPLEMENTARY INFORMATION:

Background

On August 29, 2014, CCC and FSA published a final rule titled “Margin Protection Program for Dairy and Dairy Product Donation Program.” The final rule implemented MPP-Dairy and DPDP as authorized in the 2014 Farm Bill (Pub. L. 113-79). FSA will operate both programs using CCC funds.

MPP-Dairy provides dairy producers with risk management coverage that will pay producers when the difference between the price of milk and the cost of feed (the margin) falls below a certain level. Under the related DPDP, which is a complimentary program designed to support producer margins by increasing the price of milk, the U.S. Department of Agriculture (USDA) will buy dairy products when the margin falls below a certain level, and the USDA Food and Nutrition Service will assist in the distribution of these products to individuals in low-income groups through public and private non-profit organizations.

The final rule requested comments on the topics of intergenerational transfers for MPP-Dairy and cost effective purchases for DPDP. FSA received a comment requesting an extension of the comment period. We have determined that providing an extension of the original comment period will give the public more time to provide input and to make recommendations on the final rule. With this extension, the public may submit comments through December 15, 2014.

Signed on October 17, 2014.
Val Dolcini,
Executive Vice President, Commodity Credit Corporation, and Administrator, Farm Service Agency.

[FR Doc. 2014-25422 Filed 10-29-14; 8:45 am]

BILLING CODE 3410-05-P